NUCLEAR REGULATORY COMMISSION

Sunshine Act Meeting

DATE: Weeks of September 10, 17, 24, October 1, 8, 15 2001

PLACE: Commissioners' Conference Room, 11555 Rockville Pike, Rockville, Maryland

STATUS: Public and Closed

MATTERS TO BE CONSIDERED:

Week of September 10, 2001

There are no meetings scheduled for the Week of September 10, 2001.

Week of September 17, 2001—Tentative

There are no meetings scheduled for the Week of September 17, 2001.

Week of September 24, 2001—Tentative

Friday, September 28, 2001

9:25 a.m. Affirmation Session (Public Meeting) (if needed)

9:30 a.m. Briefing on Decommissioning Activities and Status (Public Meeting) (Contact: John Buckley, 301-415-6607)

1:30 p.m. Briefing on Threat Environment Assessment (Closed-Ex. 1)

Week of October 1, 2001—Tentative

Thursday, October 4, 2001

9:25 a.m. Affirmation Session (Public Meeting) (if needed)

Week of October 8, 2001—Tentative

There are no meetings scheduled for the Week of October 8, 2001.

Week of October 15, 2001—Tentative

Thursday, October 18, 2001

9:00 a.m. meeting with NRC Stakeholders—Progress of Regulatory Reform (Public Meeting) (Location—Two White Flint North Auditorium)

The schedule for Commission meetings is subject to change on short notice. To verify the status of meetings call (recording)—(301) 415-1292. Contact person for more information: David Louis Gamberoni (301) 415-1651.

The NRC Commission Meeting Schedule can be found on the Internet at: http://www.nrc.gov/SECU/smj/schedule.htm

This notice is distributed by mail to several hundred subscribers; if you no longer wish to receive it, or would like to be added to the distribution, please contact the Office of the Secretary, Washington, DC, 20555 (301-415-1969). In addition, distribution of this meeting notice over the Internet system is available. If you are interested in receiving this Commission meeting schedule electronically, please send an electronic message to dkw@nrc.gov.

Dated: September 6, 2001.
David Louis Gamberoni,
Technical Coordinator, Office of the Secretary.

[FR Doc. 01-22852 Filed 9-7-01; 11:50 am]

BILLING CODE 7590-01-M